DEPARTMENT OF THE INTERIOR

National Park Service

[NPS-WASO-NAGPRA-NPS0034808; PPWOCRADN0-PCU00RP14.R50000]

Notice of Inventory Completion: U.S. Department of Defense, Defense Health Agency, National Museum of Health and Medicine, Silver Spring, MD

AGENCY: National Park Service, Interior.

ACTION: Notice.

SUMMARY: In accordance with the Native American Graves Protection and Repatriation Act (NAGPRA), the U.S. Department of Defense, Defense Health Agency, National Museum of Health and Medicine has completed an inventory of human remains and has determined that there is a cultural affiliation between the human remains and Indian Tribes or Native Hawaiian organizations in this notice. The human remains were removed from the vicinity of Waimea in Kauai County, HI.

DATES: Repatriation of the human remains in this notice may occur on or after December 7, 2022.

ADDRESSES: Mr. Brian F. Spatola, Curator of Anatomical Division, National Museum of Health and Medicine, U.S. Army Garrison Forest Glen, 2500 Linden Lane, Silver Spring, MD 20910, telephone (301) 319-3353, email brian.f.spatola.civ@healthl.mil.

SUPPLEMENTARY INFORMATION: This notice is published as part of the National Park Service's administrative responsibilities under NAGPRA. The determinations in this notice are the sole responsibility of the National Museum of Health and Medicine. The National Park Service is not responsible for the determinations in this notice. Additional information on the determinations in this notice, including the results of consultation, can be found in the inventory or related records held by the National Museum of Health and Medicine.

Description

At an unknown date, human remains representing, at minimum, one individual were removed from the vicinity of Waimea in Kauai County, HI. The human remains consist of an adult cranium that was collected by Valdemar Knudsen. Initially, these human remains were donated to the Smithsonian Institution. In February of 1869, they were transferred to the Army Medical Museum (today the National Museum of Health and Medicine). The cranium exhibits a healed depression fracture to the frontal bone. No known individual was identified. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological, geographical, historical, and archival.

Determinations

Pursuant to NAGPRA and its implementing regulations, and after consultation with the appropriate Indian Tribes and Native Hawaiian organizations, the National Museum of Health and Medicine has determined that:

• The human remains described in this notice represent the physical remains of one individual of Native Hawaiian ancestry.

• There is a relationship of shared group identity that can be reasonably traced between the human remains described in this notice and the Native Hawaiian organization Hui Iwi Kuamo'o.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after December 7, 2022. If competing requests for repatriation are received, the National Museum of Health and Medicine must determine the most appropriate requestor prior to repatriation. Requests for joint repatriation of the human remains and associated funerary objects are considered a single request and not competing requests. The National Museum of Health and Medicine is responsible for sending a copy of this notice to the Native Hawaiian organization identified in this notice.

Authority: Native American Graves Protection and Repatriation Act, 25 U.S.C. 3003, and the implementing regulations, 43 CFR 10.9, 10.10, and 10.14.

Dated: October 26, 2022.
Melanie O'Brien,
Manager, National NAGPRA Program.

[FR Doc. 2022-24226 Filed 11-4-22; 8:45 am]

BILLING CODE 4312-52-P